DEPARTMENT OF AGRICULTURE

Submission for OMB Review; Comment Request

June 20, 2019.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by July 25, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service (NASS)

Title: Agricultural Resource Management and Chemical Use Surveys—Substantive Change.

OMB Control Number: 0535-0218.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

Using the Agricultural Resource Management Survey (ARMS) and the Fruit Chemical Use Survey, NASS collects environmental data which includes cropping practices, fertilizer applications, pesticide usage for weeds, insects, fungus, mold, etc., and the use of various pest management practices. NASS has entered into a cooperative agreement with the Office of Pest Management Policy to collect additional information for the 2019 crop production year. Additional questions have been added to the Pest Management Practices sections of each of these questionnaires. The surveys that will be targeted for 2019 are the Production Practices Report (spring wheat, winter wheat and durum wheat), the Production Practices and Costs Report (barley, cotton, and sorghum), and the Fruit Chemical Use Survey.

The additional questions will expand the scope of the pest management practices. NASS conducted cognitive interviews with farmers to streamline the questions in order to keep additional respondent burden to a minimum.

This substantive change resulted in an overall reduction in sample size by 3,600 but the additional questions added, on average about 10 minutes to each questionnaire. The new sample size for this group of surveys is 15,600 respondents with a net increase in respondent burden of 159 hours above the currently approved total.

Need and Use of the Information: The OPMP was created by the Agricultural Research, Extension, and Education Reform Act of 1998 in response to grower concerns about the implementation of the Food Quality Protection Act of 1996 (FQPA). By 1998 statute, and as reauthorized in the Agricultural Act of 2014 (Pub. L. 113-79), OPMP “shall be responsible for

• The development and coordination of Department policy on pest management and pesticides;

• the coordination of activities and services of the Department, including research, extension, and education activities, regarding the development, availability, and use of economically and environmentally sound pest management tools and practices;

• assisting other agencies of the Department in fulfilling their responsibilities related to pest management or pesticides under the Food Quality Protection Act of 1996, the Federal Food, Drug and Cosmetic Act and other applicable laws;

• perform other functions as required by law of by request of the Secretary;

• ensure coordination of interagency activities with EPA and FDA and other Federal and state agencies; and

• consult with agricultural producers that may be affected by pest management or pesticide-related activities or actions of the Department or other agencies.”

The additional questions that will be added to the questionnaires will address the following topics:

• Growers practices used to reduce off-field pesticide drift,

• Growers participation in programs to manage pesticide drift,

• Grower decisions regarding application methods, nozzle choices, and spray tank management,

• Sources of information growers are using to inform their pest resistance management decisions,

• Grower practices employed to manage pesticide resistance,

• Grower Best Management Practices (BMPs) to prevent pesticide exposure to pollinators,

• Grower awareness of BMPs to prevent pesticide exposure to pollinators.

Description of Respondents: Farms.

Number of Respondents: 15,600.

Frequency of Responses: Reporting: Once.

Total Burden Hours: 11,981.

Kimble Brown,
Departmental Information Collection Clearance Officer.

[FR Doc. 2019-13425 Filed 6-24-19; 8:45 am]

BILLING CODE 3410-20-P